DEPARTMENT OF COMMERCE

Census Bureau

Agency Information Collection Activities; Submission to the Office of Management and Budget (OMB) for Review and Approval; Comment Request; Business Trends and Outlook Survey

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on December 18, 2024, during a 60-day comment period. This notice allows for an additional 30 days for public comments.

Agency: U.S. Census Bureau, Department of Commerce.

Title: Business Trends and Outlook Survey.

OMB Control Number: 0607-1022.

Form Number(s): This online survey has no form number.

Type of Request: Regular submission, Request for a Revision of a Currently Approved Collection.

Number of Respondents: 795,000.

Average Hours per Response: 10 minutes.

Burden Hours: 132,500.

Needs and Uses: The mission of the U.S. Census Bureau (Census Bureau) is to serve as the leading source of quality data about the nation's people and economy; to fulfill this mission, it is necessary to innovate to produce more detailed, more frequent, and more timely data products. The Coronavirus pandemic was an impetus for the creation of new data products by the Census Bureau to measure the pandemic's impact on the economy: the Small Business Pulse Survey (SBPS) and the weekly Business Formation Statistics. Policymakers and other federal agency officials, media outlets, and academia commended the Census Bureau's rapid response to their data needs during the largest economic crisis in recent American history. The Census Bureau capitalized on the successes that underlaid the high frequency data collection and near real time data dissemination engineered for the SBPS by creating the Business Trends and Outlook Survey (BTOS).

BTOS uses ongoing data collection to produce high frequency, timely, and granular information about current economic conditions and trends. BTOS is the only biweekly business tendency survey produced by the federal statistical system, providing unique and detailed data during times of economic or other emergencies. The BTOS target population is all nonfarm employer businesses with receipts of $1,000 or more in the United States, the District of Columbia, and Puerto Rico.

The current sample consists of approximately 1.2 million businesses split into six panels. Data collection occurs every two weeks, and businesses in each panel are asked to report once every 12 weeks for one year. Current BTOS data BTOS are representative of all employer businesses (excluding farms) in the U.S. economy and are published every two weeks. The data are available at the national and state levels, in addition to the 25 most-populous Metropolitan Statistical Areas (MSAs). North American Industry Classification System (NAICS) sector, subsector, and state by sector are also published, as are employment size class, and sector by employment size class data, according to the same timeline.

Data from BTOS is currently used to provide timely data to understand the economic conditions being experienced by businesses; BTOS provides near real time data on key items such as revenue, paid employees, interest rates, and prices. A new sample collection is conducted each year.

BTOS also provides high level information on the changing share of businesses facing difficulties stemming from supply chain issues, interest rate changes, or weather events. Previously, there had been few data sources available to policymakers, media outlets, and academia that delivered near real-time insights into economic trends and outlooks. BTOS data has been used by the Small Business Administration to evaluate the impact of regulatory changes. The use of the BTOS data (or additional requirements) is still being determined by the Economic Development Agency (EDA) to understand the impact of natural disasters on U.S. businesses. The EDA will then guide the Federal Emergency Management Agency (FEMA) and/or policymakers in assisting in economic recovery support missions.

In the approved OMB package for BTOS, the Census Bureau proposed an incremental path to reach the full scope of BTOS. The first scope expansion proposed adding multi-unit businesses (those with more than one location or establishment) to BTOS. BTOS was limited in scope to include only single-unit businesses. Despite comprising a relatively small share of the total number of businesses, multi-unit (MU) businesses are responsible for most of the employment, payroll, and revenue/sales in the United States and contribute disproportionately to economic activity. In addition, MU businesses are on average larger than single-unit businesses. Adding these businesses helped ensure BTOS results are representative of the full economy. The Census Bureau still proposes an incremental path to the final scope of BTOS to learn at each implemented stage and to allow for modifications based on lessons learned or internal/external stakeholder feedback in prior iterations.

For the first year of BTOS, the content remained unchanged at 26 questions. For the second year, the Census Bureau moved to a set of core questions and supplemental content. Core content includes measures of economic activity that are broadly applicable across non-farm sectors and are important across the business cycle and during economic or other emergencies. Core content is also complementary to key items found on other Economic surveys, such as revenues, employees, hours, and inventories. Core items may also include concepts that may become core topics, such as the artificial intelligence questions that started in the second year.

Supplemental content is added to the BTOS instrument as needed and on a periodic basis. It will be designed to provide urgently needed data on an emerging or current issue. The supplement will include a set of questions that performs a deeper dive into a focused topic that requires timely data. On average, the Census Bureau estimates the supplemental questions will impose an additional 10 minutes of burden.

Consideration for core and supplemental concepts will be based on data consistency, how the questions performed on the current BTOS, the results of cognitive testing, stakeholder feedback, and the ability to collect complementary items on monthly, quarterly, annual, or census programs to provide context and benchmarking.

For future changes, the Census Bureau will submit a request to OMB including 30 days of public comment announced in the Federal Register to receive approval to make any substantive revisions to the content or methods of the proposed survey, including incremental scope changes. It is likely that new supplemental content will be chosen for each year, and an updated instrument will be submitted to OMB for review along with a 30-day Federal Register Notice.

This submission seeks OMB approval for several requests. First, the Census Bureau is requesting a three-year extension to continue the BTOS data collection operations. In addition, the BTOS survey instrument has been shortened to focus on a concise set of core questions, reducing the core instrument from 26 to 16 questions. After a few years of data collection, the Census Bureau recognizes that certain concepts are more useful than others. Through analysis, the agency identified and retained the most essential concepts. Going forward, the survey will remain adaptable to both the evolving economy and the needs of policy makers. Lastly, the Bureau requests approval to repeat the artificial intelligence (AI) supplement with content changes, once the cognitive testing OMB package is no longer on hold, and cognitive testing is completed. We are submitting with this request the proposed but untested AI supplemental questions. Once cognitive testing is complete, we will submit the final set of AI questions as a non-substantive change.

Based on cognitive testing results, the burden estimate for the core questions is no more than 10 minutes. The sample year 2 AI supplement added an additional 10 minutes of burden. The new AI supplement burden will be determined once cognitive testing is completed.

Frequency: Bi-weekly.

Respondent's Obligation: Voluntary.

Legal Authority: Title 13 U.S.C., sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1022.

Sheleen Dumas,
Departmental PRA Compliance Officer, Office of the Under Secretary for Economic Affairs, Commerce Department.

[FR Doc. 2025-05461 Filed 3-28-25; 8:45 am]

BILLING CODE 3510-07-P